DEPARTMENT OF HOMELAND SECURITY

Federal Emergency Management Agency

[Docket ID FEMA-2016-0002; Internal Agency Docket No. FEMA-B-1649]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 12, 2016.
Roy E. Wright,
Deputy Associate Administrator for Insurance and Mitigation, Department of Homeland Security, Federal Emergency Management Agency.

State and county | Location and case No. | Chief executive officer of community | Community map repository | Online location of letter of map revision | Effective date of modification | Community No.
Arkansas: Benton | City of Rogers (16-06-2846P) | The Honorable Greg Hines, Mayor, City of Rogers, 301 West Chestnut Street, Rogers, AR 72756 | Planning and Transportation Department, 301 West Chestnut Street, Rogers, AR 72756 | http://www.msc.fema.gov/lomc | Nov. 18, 2016 | 050013
Colorado:
Adams | City of Thornton (16-08-0189P) | The Honorable Heidi Williams, Mayor, City of Thornton, 9500 Civic Center Drive, Thornton, CO 80229 | Engineering Services Division, 12450 Washington Street, Thornton, CO 80241 | http://www.msc.fema.gov/lomc | Nov. 25, 2016 | 080007
Adams | Unincorporated areas of Adams County (16-08-0189P) | The Honorable Charles “Chaz” Tedesco, Chairman, Adams County Board of Commissioners, 4430 South Adams County Parkway, 5th Floor, Suite C5000A, Brighton, CO 80601 | Adams County Transportation Department, 4430 South Adams County Parkway, Brighton, CO 80601 | http://www.msc.fema.gov/lomc | Nov. 25, 2016 | 080001
Broomfield | City and County of Broomfield (16-08-0401P) | The Honorable Randy Ahrens, Mayor, City and County of Broomfield, 1 DesCombes Drive, Broomfield, CO 80020 | City and County of Broomfield Engineering Department, 1 DesCombes Drive, Broomfield, CO 80020 | http://www.msc.fema.gov/lomc | Nov. 4, 2016 | 085073
Denver | City and County of Denver (16-08-0128P) | The Honorable Michael B. Hancock, Mayor, City and County of Denver, 1437 Bannock Street, Suite 350, Denver, CO 80202 | Department of Public Works, 201 West Colfax Avenue, Denver, CO 80202 | http://www.msc.fema.gov/lomc | Nov. 28, 2016 | 080046
El Paso | City of Colorado Springs (16-08-0161P) | The Honorable John Suthers, Mayor, City of Colorado Springs, 30 South Nevada Avenue, Colorado Springs, CO 80903 | Pikes Peak Regional Development Center, 2880 International Circle, Colorado Springs, CO 80910 | http://www.msc.fema.gov/lomc | Oct. 3, 2016 | 080060
Jefferson | Unincorporated areas of Jefferson County (15-08-0601P) | The Honorable Libby Szabo, Chair, Jefferson County, Board of Commissioners, 100 Jefferson County Parkway, Golden, CO 80419 | Jefferson County Planning and Zoning Division, 100 Jefferson County Parkway, Golden, CO 80419 | http://www.msc.fema.gov/lomc | Nov. 18, 2016 | 080087
Weld | Town of Windsor (16-08-0495P) | Mr. Kelly Arnold, Manager, Town of Windsor, 301 Walnut Street, Windsor, CO 80550 | Town Hall, 301 Walnut Street, Windsor, CO 80550 | http://www.msc.fema.gov/lomc | Nov. 4, 2016 | 080264
Connecticut:
Fairfield | Town of Westport (16-01-1134P) | The Honorable James S. Marpe, First Selectman, Town of Westport Board of Selectmen, 110 Myrtle Avenue, Westport, CT 06880 | Planning and Zoning Division, 110 Myrtle Avenue, Westport, CT 06880 | http://www.msc.fema.gov/lomc | Nov. 28, 2016 | 090019
Hartford | City of Bristol (16-01-0873P) | The Honorable Kenneth B. Cockayne, Mayor, City of Bristol, 111 North Main Street, 3rd Floor, Bristol, CT 06010 | City Hall, 111 North Main Street, Bristol, CT 06010 | http://www.msc.fema.gov/lomc | Nov. 14, 2016 | 090023
Delaware: Sussex | Unincorporated areas of Sussex County (16-03-1493P) | The Honorable Michael Vincent, President, Sussex County Council, P.O. Box 589, Georgetown, DE 19947 | Sussex County Planning and Zoning Department, 2 The Circle, Georgetown, DE 19947 | http://www.msc.fema.gov/lomc | Nov. 18, 2016 | 100029
Florida:
Bay | City of Panama City (16-04-2379P) | The Honorable Greg Brudnicki, Mayor, City of Panama City, 9 Harrison Avenue, Panama City, FL 32401 | City Hall, 9 Harrison Avenue, Panama City, FL 32401 | http://www.msc.fema.gov/lomc | Nov. 21, 2016 | 120012
Bay | Unincorporated areas of Bay County (16-04-2379P) | The Honorable Mike Nelson, Chairman, Bay County Board of Commissioners, 840 West 11th Street, Panama City, FL 32401 | Bay County Planning and Zoning Division, 840 West 11th Street, Panama City, FL 32401 | http://www.msc.fema.gov/lomc | Nov. 21, 2016 | 120004
Hillsborough | Unincorporated areas of Hillsborough County (16-04-3000P) | Mr. Mike Merrill, Hillsborough County Administrator, P.O. Box 1110, Tampa, FL 33601 | Hillsborough County Building Services Department, 601 East Kennedy Boulevard, 19th Floor, Tampa, FL 33602 | http://www.msc.fema.gov/lomc | Nov. 9, 2016 | 120112
Manatee | City of Bradenton (16-04-2750P) | The Honorable Wayne H. Poston, Mayor, City of Bradenton, 101 Old Main Street West, Bradenton, FL 34205 | City Hall, 101 Old Main Street West, Bradenton, FL 34205 | http://www.msc.fema.gov/lomc | Dec. 8, 2016 | 120155
Manatee | Unincorporated areas of Manatee County (16-04-2750P) | The Honorable Vanessa Baugh, Chair, Manatee County Board of Commissioners, P.O. Box 1000, Bradenton, FL 34206 | Manatee County Building and Services Department, 1112 Manatee Avenue West, Bradenton, FL 34205 | http://www.msc.fema.gov/lomc | Dec. 8, 2016 | 120153
Monroe | City of Key West (16-04-4341P) | The Honorable Craig Cates, Mayor, City of Key West, P.O. Box 1409, Key West, FL 33041 | Building Department, 3140 Flagler Avenue, Key West, FL 33040 | http://www.msc.fema.gov/lomc | Nov. 25, 2016 | 120168
Monroe | City of Key West (16-04-4522P) | The Honorable Craig Cates, Mayor, City of Key West, P.O. Box 1409, Key West, FL 33041 | Building Department, 3140 Flagler Avenue, Key West, FL 33040 | http://www.msc.fema.gov/lomc | Nov. 2, 2016 | 120168
Monroe | City of Marathon (16-04-4887P) | The Honorable Mark Senmartin, Mayor, City of Marathon, 9805 Overseas Highway, Marathon, FL 33050 | Planning Department, 9805 Overseas Highway, Marathon, FL 33050 | http://www.msc.fema.gov/lomc | Nov. 14, 2016 | 120681
Monroe | Unincorporated areas of Monroe County (16-04-4521P) | The Honorable Heather Carruthers, Mayor, Monroe County Board of Commissioners, 500 Whitehead Street, Suite 102, Key West, FL 33040 | Monroe County Building Department, 2798 Overseas Highway, Marathon, FL 33050 | http://www.msc.fema.gov/lomc | Nov. 4, 2016 | 125129
Monroe | Unincorporated areas of Monroe County (16-04-5061P) | The Honorable Heather Carruthers, Mayor, Monroe County Board of Commissioners, 500 Whitehead Street, Suite 102, Key West, FL 33040 | Monroe County Building Department, 2798 Overseas Highway, Marathon, FL 33050 | http://www.msc.fema.gov/lomc | Nov. 9, 2016 | 125129
St. Johns | Unincorporated areas of St. Johns County (16-04-2225P) | The Honorable Jeb Smith, Chairman, St. Johns County Board of Commissioners, 500 San Sebastian View, St. Augustine, FL 32084 | St. Johns County Building Services Division, 4040 Lewis Speedway, St. Augustine, FL 32084 | http://www.msc.fema.gov/lomc | Nov. 17, 2016 | 125147
St. Johns | Unincorporated areas of St. Johns County (16-04-2816P) | The Honorable Jeb Smith, Chairman, St. Johns County Board of Commissioners, 500 San Sebastian View, St. Augustine, FL 32084 | St. Johns County Building Services Division, 4040 Lewis Speedway, St. Augustine, FL 32084 | http://www.msc.fema.gov/lomc | Oct. 28, 2016 | 125147
St. Johns | Unincorporated areas of St. Johns County (16-04-2941P) | The Honorable Jeb Smith, Chairman, St. Johns County Board of Commissioners, 500 San Sebastian View, St. Augustine, FL 32084 | St. Johns County Building Services Division, 4040 Lewis Speedway, St. Augustine, FL 32084 | http://www.msc.fema.gov/lomc | Dec. 1, 2016 | 125147
St. Johns | Unincorporated areas of St. Johns County (16-04-4045P) | The Honorable Jeb Smith, Chairman, St. Johns County Board of Commissioners, 500 San Sebastian View, St. Augustine, FL 32084 | St. Johns County Building Services Division, 4040 Lewis Speedway, St. Augustine, FL 32084 | http://www.msc.fema.gov/lomc | Oct. 21, 2016 | 125147
Georgia:
Barrow | City of Statham (16-04-0966P) | The Honorable Robert Bridges, Mayor, City of Statham, P.O. Box 28, Statham, GA 30666 | Planning and Zoning Administration, 330 Jefferson Street, Statham, GA 30666 | http://www.msc.fema.gov/lomc | Nov. 10, 2016 | 130275
Columbia | City of Grovetown (16-04-2693P) | The Honorable Gary Jones, Mayor, City of Grovetown, P.O. Box 120, Grovetown, GA 30813 | City Hall, 103 Old Wrightsboro Road, Grovetown, GA 30813 | http://www.msc.fema.gov/lomc | Nov. 10, 2016 | 130265
Columbia | Unincorporated areas of Columbia County (16-04-2613P) | The Honorable Ron C. Cross, Chairman, Columbia County Board of Commissioners, P.O. Box 498, Evans, GA 30809 | Columbia County Engineering Services Department, 630 Ronald Reagan Drive, Building A, East Wing, Evans, GA 30809 | http://www.msc.fema.gov/lomc | Nov. 3, 2016 | 130059
Columbia | Unincorporated areas of Columbia County (16-04-2693P) | The Honorable Ron C. Cross, Chairman, Columbia County Board of Commissioners, P.O. Box 498, Evans, GA 30809 | Columbia County Engineering Services Department, 630 Ronald Reagan Drive, Building A, East Wing, Evans, GA 30809 | http://www.msc.fema.gov/lomc | Nov. 10, 2016 | 130059
Kentucky:
Warren | City of Bowling Green (15-04-9366P) | The Honorable Bruce Wilkerson, Mayor, City of Bowling Green, 1001 College Street, Bowling Green, KY 42101 | City-County Planning Commission of Warren County, 1141 State Street, Bowling Green, KY 42101 | http://www.msc.fema.gov/lomc | Oct. 19, 2016 | 210219
Warren | Unincorporated areas of Warren County (15-04-9366P) | The Honorable Michael O. Buchanon, Warren County Judge-Executive, 429 East 10th Avenue, Suite 201, Bowling Green, KY 42101 | City-County Planning Commission of Warren County, 1141 State Street, Bowling Green, KY 42101 | http://www.msc.fema.gov/lomc | Oct. 19, 2016 | 210312
Lousiana:
Iberia | City of New Iberia (15-06-4117P) | The Honorable Hilda Daigre Curry, Mayor, City of New Iberia, 457 East Main Street, Suite 300, New Iberia, LA 70560 | Permit and Inspection Department, 457 East Main Street, Suite 412, New Iberia, LA 70560 | http://www.msc.fema.gov/lomc | Nov. 7, 2016 | 220082
Iberia | Unincorporated areas of Iberia Parish (15-06-4117P) | The Honorable M. Larry Richard, President, Iberia Parish, 300 Iberia Street, Suite 400, New Iberia, LA 70560 | Iberia Parish Permitting, Planning and Zoning Department, 715-A Weldon Street, New Iberia, LA 70560 | http://www.msc.fema.gov/lomc | Nov. 7, 2016 | 220078
Maine: York | Town of Kennebunkport (16-01-0716P) | The Honorable Sheila Matthews-Bull, Chair, Town of Kennebunkport, Board of Selectmen, P.O. Box 566, Kennebunkport, ME 04046 | Town Hall, 6 Elm Street, Kennebunkport, ME 04046 | http://www.msc.fema.gov/lomc | Nov. 28, 2016 | 230170
North Carolina:
Burke and Catawba | City of Hickory (15-04-A419P) | The Honorable Rudy Wright, Mayor, City of Hickory, 76 North Center Street, Hickory, NC 28601 | Planning and Development Services Department, 76 North Center Street, Hickory, NC 28601 | http://www.msc.fema.gov/lomc | Oct. 9. 2016 | 370054
Wake | Unincorporated areas of Wake County (16-04-1268P) | The Honorable James West, Chairman, Wake County Board of Commissioners, P.O. Box 550, Raleigh, NC 27602 | Wake County Environmental Services Department, Waverly F. Akins Office Building, 336 Fayetteville Street, Raleigh, NC 27601 | http://www.msc.fema.gov/lomc | Nov. 21, 2016 | 370368
North Dakota: Mackenzie | City of Watford City (16-08-0367P) | The Honorable Brent Sanford, Mayor, City of Watford City, P.O. Box 494, Watford City, ND 58854 | Engineering Department, 200 2nd Avenue Northeast, Watford City, ND 58854 | http://www.msc.fema.gov/lomc | Nov. 17, 2016 | 380344
Oklahoma:
Comanche | City of Lawton (15-06-0291P) | The Honorable Fred L. Fitch, Mayor, City of Lawton, 212 Southwest 9th Street, Lawton, OK 73501 | City Hall, 212 Southwest 9th Street, Lawton, OK 73501 | http://www.msc.fema.gov/lomc | Nov. 4, 2016 | 400049
Craig | City of Vinita (16-06-1321P) | The Honorable Ronnie Starks, Mayor, City of Vinita, 104 East Illinois Avenue, Vinita, OK 74301 | City Hall, 104 East Illinois Avenue, Vinita, OK 74301 | http://www.msc.fema.gov/lomc | Jan. 6, 2017 | 400050
Craig | Unincorporated areas of Craig County (16-06-1321P) | The Honorable H. M. “Bud” Wyatt, Associate District Judge, Craig County, 210 West Delaware Avenue, Vinita, OK 74301 | Craig County Courthouse, 210 West Delaware Avenue, Vinita, OK 74301 | http://www.msc.fema.gov/lomc | Jan. 6, 2017 | 400540
Oklahoma | City of Oklahoma City (16-06-0948P) | The Honorable Mick Cornett, Mayor, City of Oklahoma City, 200 North Walker Avenue, 3rd Floor, Oklahoma City, OK 73102 | City Hall, 200 North Walker Avenue, 3rd Floor, Oklahoma City, OK 73102 | http://www.msc.fema.gov/lomc | Dec. 9. 2016 | 405378
Pennsylvania:
Columbia | Township of Mifflin (16-03-0594P) | The Honorable Ricky L. Brown, Chairman, Township of Mifflin, Board of Supervisors, P.O. Box 359, Mifflinville, PA 18631 | Township Municipal Building, East 1st Street, Mifflinville, PA 18631 | http://www.msc.fema.gov/lomc | Nov. 14, 201 | 421167
Mercer | Borough of Grove City (16-03-0874P) | The Honorable Randy L. Riddle, Mayor, Borough of Grove City, 123 West Main Street, Grove City, PA 16127 | Borough Municipal Building, 123 West Main Street, Grove City, PA 16127 | http://www.msc.fema.gov/lomc | Dec. 1, 201 | 420675
Mercer | Township of Pine (16-03-0874P) | The Honorable Joseph N. Holmes, Chairman, Township of Pine Board of Supervisors, 545 Barkeyville Road, Grove City, PA 16127 | Township Municipal Building, 545 Barkeyville Road, Grove City, PA 16127 | http://www.msc.fema.gov/lomc | Dec. 1, 201 | 422284
South Carolina: Charleston | Town of Sullivan's Island (16-04-5272P) | The Honorable Patrick O'Neil, Mayor, Town of Sullivan's Island, P.O. Box 427, Sullivan's Island, SC 29482 | Town Hall, 2050 B Middle Street, Sullivan's Island, SC 29482 | http://www.msc.fema.gov/lomc | Dec. 1, 201 | 455418
Texas:
Bastrop | Unincorporated areas of Bastrop County (16-06-1114P) | The Honorable Paul Pape, Bastrop County Judge, 804 Pecan Street, Bastrop, TX 78602 | Bastrop County Tax Assessor and Development Services Department, 211 Jackson Street, Bastrop, TX 78602 | http://www.msc.fema.gov/lomc | Nov. 14, 2016 | 481193
Bexar | City of San Antonio (16-06-1670P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Nov. 17, 2016 | 480045
Bexar | City of San Antonio (16-06-2460P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Dec. 1, 2016 | 480045
Bexar | Unincorporated areas of Bexar County (16-06-2349P) | The Honorable Nelson W. Wolff, Bexar County Judge, 101 West Nueva Street, 10th Floor, San Antonio, TX 78205 | Bexar County Public Works Department, 233 North Pecos La Trinidad Street, Suite 420, San Antonio, TX 78207 | http://www.msc.fema.gov/lomc | Nov. 29, 2016 | 480035
Brazoria | City of Manvel (16-06-0456P) | The Honorable Delores Martin, Mayor, City of Manvel, 20025 Highway 6, Manvel, TX 77578 | Development, Permits and Inspections Department, 20025 Highway 6, Manvel, TX 77578 | http://www.msc.fema.gov/lomc | Nov. 25, 2016 | 480076
Brazoria | City of Pearland (16-06-0456P) | The Honorable Tom Reid, Mayor, City of Pearland, 3519 Liberty Drive, Pearland, TX 77581 | Engineering Division, 3519 Liberty Drive, Pearland, TX 77581 | http://www.msc.fema.gov/lomc | Nov. 25, 201 | 480077
Brazoria | Unincorporated areas of Brazoria County (16-06-0456P) | The Honorable L.M. “Matt” Sebesta, Jr., Brazoria County Judge, 111 East Locust Street, Angleton, TX 77515 | Brazoria County Floodplain Department, 111 East Locust Street Building A-29, Suite 210, Angleton, TX 77515 | http://www.msc.fema.gov/lomc | Nov. 25, 2016 | 485458
Collin | City of McKinney (16-06-0106P) | The Honorable Brian Loughmiller, Mayor, City of McKinney, P.O. Box 517, McKinney, TX 75070 | Engineering Department, 221 North Tennessee Street, McKinney, TX 75069 | http://www.msc.fema.gov/lomc | Nov. 28, 2016 | 480135
Collin | City of Sachse (16-06-0186P) | The Honorable Mike Felix, Mayor, City of Sachse, 3815 Sachse Road, Building B, Sachse, TX 75048 | City Hall, 3815 Sachse Road, Building B, Sachse, TX 75048 | http://www.msc.fema.gov/lomc | Oct. 31, 2016 | 480186
Collin | City of Wylie (16-06-0186P) | The Honorable Eric Hogue, Mayor, City of Wylie, 300 Country Club Road, Building 100, Wylie, TX 75098 | City Hall, 300 Country Club Road, Building 100, Wylie, TX 75098 | http://www.msc.fema.gov/lomc | Oct. 31, 201 | 480759
Denton | Town of Trophy Club (16-06-1485P) | The Honorable Nick Sanders, Mayor, Town of Trophy Club, 100 Municipal Drive, Trophy Club, TX 76262 | Community Development Department, 100 Municipal Drive, Trophy Club, TX 76262 | http://www.msc.fema.gov/lomc | Nov. 28, 201 | 480606
Ellis | City of Waxahachie (16-06-1354P) | The Honorable Kevin Strength, Mayor, City of Waxahachie, 401 South Rogers Street, Waxahachie, TX 75165 | City Municipal Court, 401 South Rogers Street, Waxahachie, TX 75165 | http://www.msc.fema.gov/lomc | Nov. 14, 201 | 480211
Ellis | Unincorporated areas of Ellis County (16-06-1354P) | The Honorable Carol Bush, Ellis County Judge, 101 West Main Street, Waxahachie, TX 75165 | Ellis County Historic Courthouse, 101 West Main Street, Waxahachie, TX 75165 | http://www.msc.fema.gov/lomc | Nov. 14, 201 | 480798
Guadalupe | City of Seguin (16-06-0919P) | The Honorable Don Keil, Mayor, City of Seguin, P.O. Box 591, Seguin, TX 78156 | Planning Department, 205 North River Street, Seguin, TX 78155 | http://www.msc.fema.gov/lomc | Nov. 21, 201 | 485508
Harris | City of Deer Park (16-06-0467P) | The Honorable Jerry Mouton Jr., Mayor, City of Deer Park, P.O. Box 700, Deer Park, TX 77536 | Public Works Department, 710 East San Augustine Street, Deer Park, TX 77536 | http://www.msc.fema.gov/lomc | Nov. 14, 201 | 480291
Harris | Unincorporated areas of Harris County (15-06-3864P) | The Honorable Edward M. Emmett, Harris County Judge, 1001 Preston Street, Suite 911, Houston, TX 77002 | Harris County Permit Office, 10555 Northwest Freeway, Suite 120, Houston, TX 77092 | http://www.msc.fema.gov/lomc | Nov. 18, 201 | 480287
Travis | City of Pflugerville (16-06-0599P) | The Honorable Jeff Coleman, Mayor, City of Pflugerville, P.O. Box 589, Pflugerville, TX 78660 | Development Services Center, 201-B East Pecan Street, Pflugerville, TX 78691 | http://www.msc.fema.gov/lomc | Nov. 21, 201 | 481028
Travis | Unincorporated areas of Travis County (16-06-0599P) | The Honorable Sarah Eckhardt, Travis County Judge, P.O. Box 1748, Austin, TX 78767 | Travis County Engineering Department, 700 Lavaca Street, Austin, TX 78767 | http://www.msc.fema.gov/lomc | Nov. 21, 201 | 481026
Williamson | Unincorporated areas of Williamson County (15-06-3486P) | The Honorable Dan A. Gattis, Williamson County Judge, 710 South Main Street, Suite 101, Georgetown, TX 78626 | Williamson County Engineering Department, 3151 Southeast Inner Loop, Suite B, Georgetown, TX 78626 | http://www.msc.fema.gov/lomc | Nov. 10, 201 | 481079
Utah: Grand | Unincorporated areas of Grand County (15-08-1440P) | The Honorable Elizabeth Tubbs, Chair, Grand County Council, 125 East Center Street, Moab, UT 84532 | Grand County Courthouse, 125 East Center Street, Moab, UT 84532 | http://www.msc.fema.gov/lomc | Nov. 14, 201 | 490232
Virginia: Roanoke | Unincorporated areas of Roanoke County (16-03-0403P) | Mr. Thomas C. Gates, Roanoke County Administrator, 5204 Bernard Drive, Suite 402, Roanoke, VA 24018 | Roanoke County Administration Center, 5204 Bernard Drive, Roanoke, VA 24018 | http://www.msc.fema.gov/lomc | Dec. 2, 201 | 510190

[FR Doc. 2016-23470 Filed 9-28-16; 8:45 am]

BILLING CODE 9110-12-P